DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 15984-15985, dated March 22, 2011) is amended to reflect the reorganization of the National Center on Birth Defects and Developmental Disabilities, Office of Noncommunicable Diseases, Injury and Environmental Health, Centers for Disease Control and Prevention.

Section C-B, Organization and Functions, is hereby amended as follows:

Delete item (7) of the functional statement for the Office of the Director (CUB 1), National Center on Birth Defects and Developmental Disabilities (CUB) and insert the following: (7) serves as primary liaison between NCBDDD and the CDC Office of the Associate Director for Communications and its associated research and practice.

Following the title and functional statement for the Division of Human Development and Disability (CUBC), insert the following:

Office of the Director (CUBC1). (1) Provides leadership and guidance on strategic planning and implementation, program priority setting, and policy development, to advance the mission of the division, NCBDDD, and CDC; (2) develops goals, objectives, and budget; monitors progress and allocation of resources, and reports accomplishments, future directions, and resource requirements; (3) facilitates scientific, policy and program collaboration among divisions and centers, and between CDC and other federal/non-federal partners; (4) promotes advancement of science throughout the division, supports program evaluation, and ensures that research meets the highest standards in the field; (5) provides medical expertise and consultation to planning, projects, policies and program activities; (6) advises the NCBDDD Office of the Director on matters relating to human development and disability and coordinates division responses to requests for technical assistance or information on activities supported by the division; (7) develops and produces communications tools and public affairs strategies to meet the needs of division programs and mission; and (8) represents the division at official professional and scientific meetings, both within and outside of CDC.

Child Development and Disability Branch (CUBCB). (1) Collaborates with and provides technical assistance, consultation, and training to local, state, federal, and international agencies, universities, public and private organizations on optimal child development, disability, and health promotion of children with or at risk of disabilities; (2) promotes development of data standards and standardized procedures for data management and program effectiveness and costs for systems supporting optimal child development, and disability activities; (3) coordinates and collaborates on recommendations for policy development at the federal and state levels and with the private sector to promote social participation and optimal child development, including those with or at risk for disabilities; (4) provides scientific leadership and technical assistance in the development, application, improvement and evaluation of public health activities, systems, and interventions supporting optimal child development, including those with or at risk for disabilities; (5) conducts research to expand the knowledge base related to optimal early development and health of children with or at risk of disabilities, and investigates costs and effectiveness of intervention programs and systems; (6) supports the development and utilization of activities necessary for health promotion and prevention of secondary conditions in children of all ages who have or are at risk for disabilities and their families; (7) supports and enhances public health capacity, including surveillance and data sharing, for promoting optimal health and development of infants and children with or at risk for disabilities and their families across the lifespan; (8) develops and disseminates information from surveillance and epidemiologic research, health promotion and disease prevention strategies, and policies related to public health aspects of typical and atypical child development; and (9) provides leadership in health promotion and child development for infants and children with or at risk for delays or disabilities and their families.

Disability and Health Branch (CUBCC). (1) Collaborates with and provides technical assistance, consultation, and training to local, state, federal, and international agencies, universities and governmental and non-governmental organizations on disability and health related issues; (2) collaborates with local, state, federal, and international agencies, and appropriate governmental and non-governmental organizations to develop, review, and implement policies that advance the health of people with disabilities across the lifespan; (3) provides scientific leadership in the development, application, extension, and improvement of health surveillance and tracking systems related to disability and health; (4) conducts and supports both qualitative and quantitative research to expand the knowledge base related to disability and health across the lifespan; (5) supports the development and utilization of secondary condition prevention activities for people with specific or categorical disabilities; (6) supports and coordinates state public health capacity for promoting the health of people with disabilities; (7) disseminates information from surveillance and health services research, epidemiological research, health promotion and disease prevention strategies, and policies related to disability and health; (8) establishes collaborative partnerships with public and private organizations of national and international stature to promote the health of people with disabilities; (9) collaborates with funded nongovernmental agencies to disseminate best practices, identify areas of need, facilitate development and distribution of educational materials, and provide informational resources to states and affected populations and their caregivers; and (10) provides leadership in health promotion and disease prevention across the lifespan for individuals with disabilities.

Dated: April 10, 2011.
James D. Seligman,
Acting Chief Operating Officer, Centers for Disease Control and Prevention.

[FR Doc. 2011-10504 Filed 4-29-11; 8:45 am]

BILLING CODE 4160-18-M